DEPARTMENT OF ENERGY

Federal Energy Regulatory Commission

[Docket No. CP98-150-008]

Millennium Pipeline Company, L.L.C.; Notice of Petition To Amend

May 9, 2006.

Take notice that on May 3, 2006, Millennium Pipeline Company, L.L.C., (Millennium), One Blue Hill Plaza, 7th Floor, P.O. Box 1565, Pearl River, New York 10965, filed in Docket No. CP98-150-008, a second amendment to its pending application filed on August 1, 2005, in Docket No. CP98-150-006, pursuant to section 7 of the Natural Gas Act (NGA), to reflect: (1) The conversion of Millennium Pipeline Company, L.P. to Millennium Pipeline Company, L.L.C; (2) Columbia Gas Transmission Corporation's (Columbia) Line 1278 north of Milford, Line K and the Milford Compressor Station which Millennium initially proposed to acquire and operate, will instead be retained by Columbia, and under which Millennium will lease capacity on the retained facilities; (3) the relocation of the Wagoner M&R station from Milford, Pennsylvania to Deer Park, New York; (4) certain minor route changes and modifications with respect to the location of pipe, contractor and staging yards; and (5) to include the latest amended versions of the precedent agreements, a new precedent agreement with Central Hudson Gas & Electric Corporation, and certain formation documents. In addition, Millennium requests that the Commission vacate the portions of the certificated project that are not located on the proposed route from Greenwood, New York to the point in Clarkstown, New York referred to as Buena Vista, all as more fully set forth in the petition which is on file with the Commission and open to public inspection.

This petition to amend is on file with the Commission and open to public inspection. This filing is available for review at the Commission in the Public Reference Room or may be viewed on the Commission's Web site at http://www.ferc.gov using the “eLibrary” link. Enter the docket number excluding the last three digits in the docket number field to access the document. For assistance, please contact FERC Online Support at FERCOnlineSupport@ferc.gov or toll free at (866) 208-3676, or for TTY, contact (202) 502-8659.

Any initial questions regarding this petition should be directed to counsel for Millennium, Daniel F. Collins or Glenn S. Benson, Fulbright & Jaworski, L.L.P., at 801 Pennsylvania Avenue, NW., Washington, DC 20004; or (202) 662-4586 (Daniel) or (202) 662-4589 (Glenn), or by fax at (202) 662-4643.

There are two ways to become involved in the Commission's review of this project. First, any person wishing to obtain legal status by becoming a party to the proceedings for this project should, on or before the comment date, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project, or in support of or in opposition to this project, should submit an original and two copies of their comments to the Secretary of the Commission. Environmental commenters will be placed on the Commission's environmental mailing list, will receive copies of the environmental documents, and will be notified of meetings associated with the Commission's environmental review process. Environmental commenters will not be required to serve copies of filed documents on all other parties. The Commission's rules require that persons filing comments in opposition to the project provide copies of their protests only to the applicant. However, the non-party commenters will not receive copies of all documents filed by other parties or issued by the Commission (except for the mailing of environmental documents issued by the Commission) and will not have the right to seek court review of the Commission's final order.

The Commission strongly encourages electronic filings of comments, protests, and interventions via the Internet in lieu of paper. See 18 CFR 385.2001(a)(1)(iii) and the instructions on the Commission's Web site (http://www.ferc.gov) under the “e-Filing” link.

Comment Date: May 30, 2006.

Magalie Salas,
Secretary.

[FR Doc. E6-7384 Filed 5-15-06; 8:45 am]

BILLING CODE 6717-01-P